DEPARTMENT OF ENERGY

Federal Energy Regulatory Commission

[Project No. 2788-017]

Notice of Application Ready for Environmental Analysis and Soliciting Comments, Recommendations, Terms and Conditions, and Prescriptions; Goodyear Lake Hydro, LLC

Take notice that the following hydroelectric application has been filed with the Commission and is available for public inspection.

a. Type of Application: Subsequent Minor License.

b. Project No.: 2788-017.

c. Date filed: February 27, 2017.

d. Applicant: Goodyear Lake Hydro, LLC (Goodyear Lake Hydro).

e. Name of Project: Colliersville Hydroelectric Project.

f. Location: On the Susquehanna River, in the Town of Milford, Otsego County, New York. The project does not occupy lands of the United States.

g. Filed Pursuant to: Federal Power Act 16 U.S.C. 791 (a)-825(r).

h. Applicant Contact: Mr. Kevin Webb, Hydro Licensing Manager; Enel Green Power North America, Inc., 100 Brickstone Square, Suite 300, Andover, MA 01810; (978) 935-6039; kevin.webb@enel.com.

i. FERC Contact: Emily Carter, (202) 502-6512 or emily.carter@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2788-017.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, and is ready for environmental analysis at this time.

l. The Colliersville Hydroelectric Project consists of: (1) A 200-foot-long, 35-foot-high reinforced-concrete Ambursen-type dam; (2) a 364-acre reservoir (Goodyear Lake) with a gross storage capacity of 7,800 acre-feet at a normal pool elevation of 1,150.22 feet National Geodetic Vertical Datum of 1929; (3) a 550-foot-long reinforced concrete power canal, approximately 50 feet wide and 6 feet deep at the head gates, extending from a head gate structure adjacent to the dam (i.e., the intake) to the powerhouse; (4) a 103-foot-long by 33-foot-wide reinforced concrete powerhouse with trash racks with a clear spacing of 1.5 inches, and containing two turbines rated at 850 horsepower (HP) and 1,150 HP, and two generators having a rated capacity of 650 kilowatts (kW) and 850 kW, respectively; (5) a 300-foot-long and approximately 50- to 60-foot-wide tailrace; (6) approximately 80-foot-long, 4.16-kilovolt underground generator leads or transmission lines from the powerhouse to an adjacent substation owned by the New York State Electric and Gas Corporation; and (7) appurtenant facilities.

Goodyear Lake Hydro operates the project in a run-of-river mode. The project experiences substantial seasonal and annual variations in generation, and generates an annual average of 5,985 megawatt-hours. Goodyear Lake Hydro proposes to continue to operate the project in run-of-river mode.

m. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

All filings must (1) bear in all capital letters the title COMMENTS, REPLY COMMENTS, RECOMMENDATIONS, TERMS AND CONDITIONS, or PRESCRIPTIONS; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

o. Procedural schedule: The application will be processed according to the following schedule. Revisions to the schedule will be made as appropriate.

Milestone | Target date
Deadline for Filing Comments, Recommendations, and Agency Terms and Conditions/Prescriptions | June 2018.
Deadline for filing Reply Comments | July 2018.
Commission issues EA | November 2018.
Comments due on EA | December 2018.

Dated: April 16, 2018.
Kimberly D. Bose,
Secretary.

[FR Doc. 2018-08267 Filed 4-19-18; 8:45 am]

BILLING CODE 6717-01-P